OFFICE OF THE UNITED STATES TRADE REPRESENTATIVE

Notice of Meeting of the Industry Trade Advisory Committee on Small and Minority Business (ITAC-11)

AGENCY: Office of the United States Trade Representative.

ACTION: Notice of a Partially Opened Meeting.

SUMMARY: The Industry Trade Advisory Committee on Small and Minority Business (ITAC-11) will hold a meeting on Thursday, September 20, 2007, from 9 a.m. to 3:30 p.m. The meeting will be closed to the public from 9 a.m. to 12 p.m. and opened to the public from 1 p.m. to 3:30 p.m.

DATES: The meeting is scheduled for September 20, 2007, unless otherwise notified.

ADDRESSES: The meeting will be held at the U.S. Department of Commerce, 14th & Constitution Avenue, NW., Washington, DC 20230, Room 3407.

FOR FURTHER INFORMATION CONTACT: Laura Hellstern, DFO for ITAC-11 at (202) 482-3222, Department of Commerce, 14th Street and Constitution Avenue, NW., Washington, DC 20230.

SUPPLEMENTARY INFORMATION: During the opened portion of the meeting the following agenda items will be considered.

• Export Financing Issues. Information on what type of loans, how many loans and what dollar amount in loans are made to small/minority businesses vs. large businesses in the U.S. by Ex-Im Bank through the Small Business Administration.

• Americas Competitiveness Forum. An update on the accomplishments made by the Americas Competitiveness Forum, which was held in Atlanta in June 2007. A projection on what plans are being made for a follow up to the forum in 2008.

• Update on Programs Offered by the U.S. and Foreign Commercial Service. A briefing and update on programs and services that are available to small and minority businesses through the U.S. and Foreign Commercial Service.

Tiffany M. Moore,
Assistant U.S. Trade Representative for Intergovernmental Affairs and Public Liaison.

[FR Doc. E7-18301 Filed 9-14-07; 8:45 am]

BILLING CODE 3190-W7-P